DEPARTMENT OF HOMELAND SECURITY

Coast Guard

33 CFR Part 117

[USCG-2008-0111]

Drawbridge Operation Regulations; Piscataqua River, Portsmouth, NH, and Kittery, ME

AGENCY: Coast Guard, DHS.

ACTION: Notice of temporary deviation from regulations.

SUMMARY: The Commander, First Coast Guard District, has issued a temporary deviation from the regulation governing the operation of the Memorial (US 1) Bridge across the Piscataqua River at mile 3.5, between Portsmouth, New Hampshire and Kittery, Maine. Under this temporary deviation, the bridge may remain in the closed position. This deviation is necessary to facilitate scheduled bridge maintenance.

DATES: This deviation is effective from 7 a.m. on April 21, 2008 through 7 a.m. on April 26, 2008.

ADDRESSES: Documents indicated in this preamble as being available in the docket are part of docket USCG-2008-0111 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 2 p.m., Monday through Friday, except Federal holidays. The telephone number is (617) 223-8364.

FOR FURTHER INFORMATION CONTACT: John McDonald, Project Officer, First Coast Guard District, at (617) 223-8364.

SUPPLEMENTARY INFORMATION: The Memorial (US 1) Bridge, across the Piscataqua River at mile 3.5, between Portsmouth, New Hampshire and Kittery, Maine, has a vertical clearance in the closed position of 11 feet at mean high water and 19 feet at mean low water. The existing drawbridge operation regulations are listed at 33 CFR 117.531.

The owner of the bridge, New Hampshire Department of Transportation, requested a temporary deviation to facilitate scheduled bridge maintenance, counterweight rope replacement.

Under this temporary deviation, in effect from 7 a.m. on April 21, 2008 through 7 a.m. on April 26, 2008, the Memorial (US 1) Bridge may remain in the closed position. Vessels that can pass under the bridge without a bridge opening may do so at all times.

In accordance with 33 CFR 117.35(e), the bridge must return to its regular operating schedule immediately at the end of the designated time period. This deviation from the operating regulations is authorized under 33 CFR 117.35.

Should the bridge maintenance authorized by this temporary deviation be completed before the end of the effective period published in this notice, the Coast Guard will rescind the remainder of this temporary deviation, and the bridge shall be returned to its normal operating schedule. Notice of the above action shall be provided to the public in the Local Notice to Mariners and the Federal Register, where practicable.

Dated: March 20, 2008.
Gary Kassof,
Bridge Program Manager, First Coast Guard District.

[FR Doc. E8-6616 Filed 3-31-08; 8:45 am]

BILLING CODE 4910-15-P